NATIONAL SCIENCE FOUNDATION

Notice of permit applications received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 9, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

Permit Application No. 2011-006

1. Applicant: Diane Marie McKnight, INSTAAR, 1560 30th Street, Boulder, CO 80309.

Activity for Which Permit Is Requested

Enter into Antarctic Specially Protected Area. The applicant plans to enter the Canada Glacier, Lake Fryxell (ASPA #131) to continue operation of a previously installed, continuously recording stream gauge station, perform maintenance, conduct stream flow measurements and collect water quality samples near the stream gauge site. The applicant will also collect water quality samples of the melt-water of the Canada Glacier and along the length of the stream to study in-stream biogeochemical processes. Samples of the microbial mats and mosses will also be collected for study. LIDAR and other survey and monitoring techniques may be used to detect changes in the stream bed and algal mat distribution over time.

Location: Canada Glacier, Lake Fryxell, Taylor Valley (ASPA 131)

Dates: February 28, 2011 to February 28, 2016

Permit Application No. 2011-022.

2. Applicant: Adam Kustka, Department of Earth & Environmental Sciences, Rutgers University, 101 Warren Street, Newark, NJ 07102.

Activity for Which Permit Is Requested

Export from USA, and Introduce Non-indigenous Species into Antarctica. The applicant is investigating the role of modified circumpolar deep water on supplying Fe to the surface ocean and how this Fe supply impacts initial CO² sequestration and how it impacts the composition of the phytoplankton community assemblage. To trace the fate and recycling of organic carbon and Fe that has been incorporated into phytoplankton, they will use cell lysates labeled with the radioisotopes of C or Fe. In complementary experiments, lysates will also be labeled with the stable isotope 13C. These lysates will be generated in the university lab using cultures of a centric diatom (Thhalassiosira weissflogii) and a temperate haptophyte (Phaeocystic globosa)—species that cannot tolerate seawater temperatures in Antarctica. The lysates will be shipped from the University via New Zealand and used onboard the research vessel, Nathaniel B. Palmer, in the Ross Sea. Once experiments are concluded, the lysates will be placed in the radioactive waste stream and not released to the environment.

Location: Ross Sea, Antarctica

Dates: January 1, 2011 to March 1, 2011

Nadene G. Kennedy,
Permit Officer, Office of Polar Programs.

[FR Doc. 2010-28202 Filed 11-8-10; 8:45 am]

BILLING CODE 7555-01-P